DEPARTMENT OF ENERGY

Federal Energy Regulatory Commission

[Docket No. RP00-626-003]

Transwestern Pipeline Company; Notice of Compliance Filing

May 7, 2001.

Take notice that on April 13, 2001, Transwestern Pipeline Company (Transwestern) filed a letter to comply with the Commission's March 14, 2001, order in this proceeding.¹ The letter explain's (1) Why its proposed netting and trading proposal relies on dollar values as opposed to volumetric trades, (2) whether imbalances on its system could be netted and traded on a volumetric basis, and (3) how existing Section 27.1(e) of Transwestern's tariff, which provides for the make up of imbalances on an in-kind basis, would operate with Transwestern's proposed new tariff language.

¹ 94 FERC ¶ 61,249 (2001).

Any person desiring to protest said filing should file a protest with the Federal Energy Regulatory Commission, 888 First Street, NE, Washington, DC 20426, in accordance with Section 385.211 of the Commission's Rules and Regulations. All such protests must be filed on or before May 14, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-11894 Filed 5-10-01; 8:45 am]

BILLING CODE 6717-01-M